COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add and service(s) to the Procurement List that will be furnished by nonprofit agencies employing persons who are blind or have other severe disabilities and delete product(s) previously furnished by such agencies.

DATES: Comments must be received on or before: July 30, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Janitorial Service

Mandatory for: Federal Aviation Administration, Fayetteville Air Traffic Control Tower, Fayetteville, NC

Designated Source of Supply: OE Enterprises, Inc., Hillsborough, NC

Contracting Activity: FEDERAL AVIATION ADMINISTRATION, 697DCK REGIONAL ACQUISITIONS SVCS

Service Type: Grounds Maintenance

Mandatory for: U.S. Department of Justice, Robert F. Kennedy Building, Washington, DC

Designated Source of Supply: Melwood Horticultural Training Center, Inc., Upper Marlboro, MD

Contracting Activity: OFFICES, BOARDS AND DIVISIONS, U.S. DEPT OF JUSTICE

Service Type: Grounds/Range Maintenance

Mandatory for: US Air Force, Camp Bullis US Army Training Center, San Antonio, TX

Designated Source of Supply: Goodwill Industries of San Antonio Contract Services, San Antonio, TX

Contracting Activity: DEPT OF THE AIR FORCE, FA3016 502 CONS CL, JBSA

Deletions

The following product(s) are proposed for deletion from the Procurement List:

Product(s)

NSN(s)—Product Name(s):

7530-01-346-4296—Folder, File, Medical Records, Type II, Manila, Letter

7530-01-347-5227—Folder, File, Administrative Records, Type I, Manila, Letter

Designated Source of Supply: LC Industries, Inc., Durham, NC

Contracting Activity: STRATEGIC ACQUISITION CENTER, FREDERICKSBURG, VA

NSN(s)—Product Name(s):

7530-01-346-4296—Folder, File, Medical Records, Type II, Manila, Letter

7530-01-347-5227—Folder, File, Administrative Records, Type I, Manila, Letter

Designated Source of Supply: CLOVERNOOK CENTER FOR THE BLIND AND VISUALLY IMPAIRED, Cincinnati, OH

Contracting Activity: STRATEGIC ACQUISITION CENTER, FREDERICKSBURG, VA

NSN(s)—Product Name(s):

4235-01-572-3892—Sorbent, Hazardous Material, Granular, Biobased, 20 LB

4235-01-572-3902—Sorbent, Hazardous Material, Granular, Biobased, 4 LB

4235-01-599-3952—Sorbent, Hazardous Material, Granular, Biobased, 40 LB

Designated y Source of Supply: San Antonio Lighthouse for the Blind, San Antonio, TX

Contracting Activity: DLA AVIATION, RICHMOND, VA

Michael R. Jurkowski,
Acting Director, Business Operations.

[FR Doc. 2023-13946 Filed 6-29-23; 8:45 am]

BILLING CODE 6353-01-P